DEPARTMENT OF COMMERCE

National Oceanic and Atmospheric Administration

50 CFR Part 622

[Docket No. 141107936-5399-02; RTID 0648-XA653]

Fisheries of the Caribbean, Gulf of Mexico, and South Atlantic; 2020 Commercial Closure for South Atlantic Gray Triggerfish

AGENCY: National Marine Fisheries Service (NMFS), National Oceanic and Atmospheric Administration (NOAA), Commerce.

ACTION: Temporary rule; closure.

SUMMARY: NMFS implements an accountability measure for the commercial sector of gray triggerfish in the South Atlantic exclusive economic zone (EEZ). NMFS projects commercial landings of gray triggerfish will reach the commercial annual catch limit (ACL) for the July through December season by November 29, 2020. Therefore, NMFS is closing the commercial sector for gray triggerfish in the South Atlantic EEZ on November 29, 2020. This closure is necessary to protect the gray triggerfish resource.

DATES: This temporary rule is effective at 12:01 a.m., local time, on November 29, 2020, through December 31, 2020.

FOR FURTHER INFORMATION CONTACT: Mary Vara, NMFS Southeast Regional Office, telephone: 727-824-5305, email: mary.vara@noaa.gov.

SUPPLEMENTARY INFORMATION: The snapper-grouper fishery of the South Atlantic includes gray triggerfish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622. All weights in this temporary rule are given in round weight.

The commercial ACL (equivalent to the commercial quota) for gray triggerfish in the South Atlantic is divided into two 6-month fishing seasons. The total commercial ACL of 312,324 lb (141,668 kg) is allocated 50 percent to each commercial fishing season, or 156,162 lb (70,834 kg) for January through June, and the same amount for July through December, as specified in 50 CFR 622.190(a)(8)(i) and (ii).

After the January through June 2020 fishing season, 25,468 lb (11,552 kg) of the gray triggerfish commercial quota remained unharvested. As specified in 50 CFR 622.190(a)(8)(iii), NMFS added this unused portion of the gray triggerfish commercial quota to the commercial quota for the July through December 2020 fishing season. Therefore, the gray triggerfish commercial quota for the July through December 2020 fishing season is 181,630 lb (82,385 kg). Any unused commercial quota for the July through December fishing season becomes void and will not be added to any subsequent quota (622.190(a)(8)(iii)).

Under 50 CFR 622.193(q)(1)(i), NMFS is required to close the commercial sector for gray triggerfish when the commercial quota specified in 50 CFR 622.190(a)(8)(ii) is reached or is projected to be reached by filing a notification to that effect with the Office of the Federal Register. NMFS has determined that the commercial quota for South Atlantic gray triggerfish for the July through December 2020 fishing season will be reached by November 29, 2020. Accordingly, the commercial sector for South Atlantic gray triggerfish is closed effective at 12:01 a.m., local time, on November 29, 2020, and remains closed until the start of the next January through June fishing season on January 1, 2021.

The operator of a vessel with a valid Federal commercial vessel permit for South Atlantic snapper-grouper with gray triggerfish on board must have landed and bartered, traded, or sold such gray triggerfish prior to 12:01 a.m., local time, on November 29, 2020. During the commercial closure, the recreational bag limit specified in 50 CFR 622.187(b)(8), and the recreational possession limits specified in 50 CFR 622.187(c), apply to all harvest or possession of gray triggerfish in or from the South Atlantic EEZ. Also during the commercial closure, the sale or purchase of gray triggerfish taken from the South Atlantic EEZ is prohibited. The prohibition on the sale or purchase does not apply to gray triggerfish that were harvested, landed ashore, and sold prior to 12:01 a.m., local time, on November 29, 2020, and were held in cold storage by a dealer or processor.

For a person on board a vessel for which a valid Federal commercial or charter vessel/headboat permit for South Atlantic snapper-grouper has been issued, the bag and possession limits and sale and purchase prohibitions for gray triggerfish apply regardless of whether the fish are harvested in state or Federal waters, as specified in 50 CFR 622.190(c)(1)(ii).

Classification

NMFS issues this action pursuant to section 305(d) of the Magnuson-Stevens Act. This action is required by 50 CFR 622.193(q)(1)(i), which was issued pursuant to section 304(b) of the Magnuson-Stevens Act, and is excempt from review under Executive Order 12866.

These measures are exempt from the procedures of the Regulatory Flexibility Act because the temporary rule is issued without opportunity for prior notice and comment.

Pursuant to 5 U.S.C. 553(b)(B), there is good cause to waive prior notice and an opportunity for public comment as such procedures are unnecessary and contrary to the public interest. Such procedures are unnecessary because the regulations associated with the commercial quota for South Atlantic gray triggerfish have already been subject to notice and comment, and all that remains is to notify the public of the commercial closure for the remainder of the July through December 2020 fishing season. Prior notice and opportunity for public comment on this action is contrary to the public interest because of the need to immediately implement the commercial closure to protect South Atlantic gray triggerfish, since the capacity of the fishing fleet allows for rapid harvest of the commercial quota. Prior notice and opportunity for public comment would require time and would potentially result in a harvest that exceeds the commercial quota.

For the aforementioned reasons, there is good cause under 5 U.S.C. 553(d)(3) to waive the 30-day delay in the effective date of this action.

Authority: 16 U.S.C. 1801 et seq.

Dated: November 23, 2020.
Jennifer M. Wallace,
Acting Director, Office of Sustainable Fisheries, National Marine Fisheries Service.

[FR Doc. 2020-26233 Filed 11-24-20; 4:15 pm]

BILLING CODE 3510-22-P